DEPARTMENT OF TRANSPORTATION

Federal Aviation Administration

[Summary Notice No. 2015-61]

Petition for Exemption; Summary of Petition Received; AeroCine, LLC

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before January 6, 2016.

ADDRESSES: Send comments identified by docket number FAA-2014-0400 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Joshua Parker (202) 267-1538, Office of Rulemaking, Federal Aviation Administration, 800 Independence Avenue SW., Washington, DC 20591.

This notice is published pursuant to 14 CFR 11.85.

Issued in Washington, DC, on December 11, 2015.
Lirio Liu,
Director, Office of Rulemaking.

Petition for Exemption

Docket No.: FAA-2014-0400

Petitioner: AeroCine, LLC

Sections of 14 CFR Affected: 61.101(e)(4) and (5),61.113(a), 61.315(a), and 61.23(a) and (c).

Description of Relief Sought: AeroCine, LLC is seeking relief for an unmanned aircraft system (UAS) operator to be in direct control of the UAS while under direct supervision and communication with an FAA private, recreational, or sport licensed pilot, who acts as a visual observer. The petitioner is also seeking relief to permit the following operations: Over non-participating persons for breaking news flights with a UAS weighing no more than 4.4 pounds; above private, or controlled access property, without permission from the owner/controller or authorized representative; contemporaneous issuance of notice to airmen for breaking news instead of the current requirement for 24 hour advanced notification; night flight operations for closed set filmmaking; and the pilot in command to operate the UAS from a moving platform for closed set filmmaking. In addition, the petitioner requests approval for the UAS Aerobo X12, which, including payload, exceeds the FAA's max weight limit of 55lbs for a small UAS.

[FR Doc. 2015-31640 Filed 12-16-15; 8:45 am]

BILLING CODE 4910-13-P